DEPARTMENT OF DEFENSE

Office of the Secretary

[DoD-2007-OS-0043]

Privacy Act of 1974; System of Records

AGENCY: Office of the Secretary, DoD.

ACTION: Notice to Add Blanket Routine Uses to Systems of Records.

SUMMARY: The Office of the Secretary of Defense proposes to add a new “Blanket Routine Uses” to DoD systems of records to its inventory of record systems subject to the Privacy Act of 1974 (5 U.S.C. 552a), as amended.

DATES: The changes will be effective on June 11, 2007 unless comments are received that would result in a contrary determination.

ADDRESSES: Send comments to Defense Privacy Office.

FOR FURTHER INFORMATION CONTACT: Mr. Vahan Moushegian, Jr. at (703) 607-2943.

SUPPLEMENTARY INFORMATION: The Department of Defense notices for systems of records subject to the Privacy Act of 1974 (5 U.S.C. 552a), as amended, have been published in the Federal Register and are available from the address above or at www.dod.mil/privacy/notices.

The Office of the Secretary of Defense is proposing to establish a new Department of Defense “Blanket Routine Use” (BRU) that will apply to each of its current Privacy Act system of records. The BRU will permit the disclosure of information, as necessary, in connection with, and in response to, a data breach of information that identifies an individual for purposes of taking such remedial actions as considered appropriate to prevent or minimize potential harms that may result to an individual as a consequence of the breach.

The proposed systems reports, as required by 5 U.S.C. 552a(r) of the Privacy Act of 1974, as amended, were submitted on May 2, 2007, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

May 3, 2007.
L.M. Bynum,
Alternate OSD Federal Register Liaison Officer, Department of Defense.

Department of Defense Blanket Routine Uses

Routine Use—Data Breach Remediation Purposes:

“A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

[FR Doc. E7-8988 Filed 5-9-07; 8:45 am]

BILLING CODE 5001-06-P